DEPARTMENT OF TRANSPORTATION

Federal Aviation Administration

14 CFR Part 39

[Docket No. FAA-2007-27611; Directorate Identifier 2007-CE-024-AD]

RIN 2120-AA64

Airworthiness Directives; Sierra Hotel Aero, Inc. Models Navion (L-17A), Navion A (L-17B), (L-17C), Navion B, Navion D, Navion E, Navion F, Navion G, and Navion H Airplanes

AGENCY: Federal Aviation Administration (FAA), Department of Transportation (DOT).

ACTION: Notice of proposed rulemaking (NPRM).

SUMMARY: We propose to adopt a new airworthiness directive (AD) for all Sierra Hotel Aero, Inc. (formally Navion Aircraft LLC) Models Navion (L-17A), Navion A (L-17B), (L-17C), Navion B, Navion D, Navion E, Navion F, Navion G, and Navion H airplanes. This proposed AD would require a one-time inspection of the entire fuel system and repetitive inspections of certain fuel selector valves. This proposed AD results from reports of airplane accidents associated with leaking or improperly operating fuel selector valves. We are proposing this AD to detect and correct fuel system leaks or improperly operating fuel selector valves, which could result in the disruption of fuel flow to the engine. This failure could lead to engine power loss.

DATES: We must receive comments on this proposed AD by July 11, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

For service information identified in this proposed AD, contact Sierra Hotel Aero, 1690 Aeronca Lane, South St. Paul, MN 55075; phone: (651) 306-1456; fax: (612) 677-3171; Internet: http://www.navion.com/servicebulletins.html; e-mail: servicebulletinsupport@navion.com.

FOR FURTHER INFORMATION CONTACT: Tim Smyth, Aerospace Engineer, 2300 East Devon Avenue, Room 107, Des Plaines, Illinois 60018; telephone: (847) 294-7132; fax: (847) 294-7834.

SUPPLEMENTARY INFORMATION:

Comments Invited

We invite you to send any written relevant data, views, or arguments regarding this proposed AD. Send your comments to an address listed under the ADDRESSES section. Include the docket number, “FAA-2007-27611; Directorate Identifier 2007-CE-024-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received several recent reports of Navion series airplanes involved in accidents where loss of engine power was a contributing factor. In some of these accidents, the National Transportation Safety Board (NTSB) determined that the cause of engine power loss was defective fuel selector valves or gasolators that allowed air to be introduced into the fuel lines and disrupt the flow of fuel to the engine.

This condition, if not corrected, could result in engine power loss.

Relevant Service Information

We have reviewed the following service information:

• Sierra Hotel Aero, Inc. Navion Service Bulletin No. 106, dated February 27, 2007;

• Sierra Hotel Aero, Inc. Navion Service Bulletin No. 101A, dated August 23, 2005; and

• Navion Aircraft Corporation Navion Service letter # 87, dated February 20, 1965.

The service information describes procedures for:

• Performing a detailed inspection of the entire fuel system;

• Inspecting and testing the fuel selector valve;

• Replacing the fuel selector valve; and

• Replacing the fuel accumulator tank.

FAA's Determination and Requirements of the Proposed AD

We are proposing this AD because we evaluated all information and determined the unsafe condition described previously is likely to exist or develop on other products of the same type design. This proposed AD would require a one-time inspection of the entire fuel system and repetitive inspections of certain fuel selector valves.

Costs of Compliance

We estimate that this proposed AD would affect 1,500 airplanes in the U.S. registry.

We estimate the following costs to do the proposed inspection:

Labor cost | Parts cost | Total cost per airplane | Total cost on U.S. operators
7 work-hours × $80 per hour = $560 | N/A | $560 | $840,000

We estimate the following costs to do any necessary replacements that would be required based on the results of the proposed inspection. We have no way of determining the number of airplanes that may need this repair/replacement:

Labor cost | Parts cost | Total cost per airplane
3 work-hours × $80 per hour = $240 | $1,000 | $1,240

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Sierra Hotel Aero, Inc. (Formally Navion Aircraft LLC): Docket No. FAA-2007-27611; Directorate Identifier 2007-CE-024-AD.

Comments Due Date

(a) We must receive comments on this airworthiness directive (AD) action by July 11, 2007.

Affected ADs

(b) None.

Applicability

(c) This AD applies to Models Navion (L-17A), Navion A (L-17B), (L-17C), Navion B, Navion D, Navion E, Navion F, Navion G, and Navion H airplanes, all serial numbers, that are certificated in any category.

Unsafe Condition

(d) This AD results from reported airplane accidents associated with leaking or improperly operating fuel system selector valves. We are issuing this AD to detect and correct fuel system leaks or improperly operating fuel selector valves, which could result in the disruption of fuel flow to the engine. This failure could lead to engine power loss.

Compliance

(e) To address this problem, you must do the following, unless already done:

Actions | Compliance | Procedures
(1) Inspect the fuel system, including inspecting and doing functional tests of the fuel selector valve. | Initially no later than 100 hours time-in-service (TIS) or 12 months, whichever occurs first, after the effective date of this AD. Repetitively thereafter inspect the fuel selector valve at intervals not to exceed 12 months until the replacement required by paragraph (e)(2) of this AD is done. | Follow Sierra Hotel Aero, Inc. Navion Service Bulletin No. 106, dated February 27, 2007.
(2) Perform any corrective actions required as specified in Sierra Hotel Aero, Inc. Navion Service Bulletin No. 106, dated February 27, 2007, including replacing the fuel selector valve with one of the following part numbers (P/N): (i) Navion P/N 147-30013-201 for airplanes equipped with ON/OFF fuel valves for the main tank. (ii) Navion P/N 147-30013-202 for airplanes equipped with main and auxiliary selectable tanks. (iii) Navion P/N 147-30013-203 for airplanes equipped with left tip, right tip and main tanks. | Before further flight after any inspection required by this AD where corrective actions are necessary. | Use the following service information: (A) Sierra Hotel Aero, Inc. Navion Service Bulletin No. 106, dated February 27, 2007. (B) Sierra Hotel Aero, Inc. Navion Service Bulletin No. 101A, dated August 23, 2005. (C) Navion Aircraft Corporation Navion Service letter # 87, dated February 20, 1965.
(3) As terminating action for the required repetitive inspections in paragraph (e)(1) of this AD, you may replace the fuel selector valve with the applicable P/N as specified in paragraphs (e)(2)(i), (e)(2)(ii), and (e)(2)(iii) of this AD. | At any time after the initial inspection required in paragraph (e)(1) of this AD; however, if replacement of the fuel selector valve is required as a corrective action as specified in Sierra Hotel Aero, Inc. Navion Service Bulletin No. 106, dated February 27, 2007, then you must replace before further flight. | Follow the procedures in Sierra Hotel Aero, Inc. Navion Service Bulletin No. 101A, dated August 23, 2005.

Alternative Methods of Compliance (AMOCs)

(f) The Manager, Chicago Aircraft Certification Office, FAA, ATTN: Tim Smyth, Aerospace Engineer, 2300 East Devon Avenue, Room 107, Des Plaines, Illinois 60018; telephone: (847) 294-7132; fax: (847) 294-7834, has the authority to approve AMOCs for this AD, if requested using the procedures found in 14 CFR 39.19. Before using any approved AMOC on any airplane to which the AMOC applies, notify your appropriate principal inspector (PI) in the FAA Flight Standards District Office (FSDO), or lacking a PI, your local FSDO.

Related Information

(g) To get copies of the service information referenced in this AD, contact Sierra Hotel Aero, 1690 Aeronca Lane, South St. Paul, MN 55075; phone: (651) 306-1456; fax: (612) 677-3171; Internet: http://www.navion.com/servicebulletins.html; e-mail: servicebulletinsupport@navion.com. To view the AD docket, go to the Docket Management Facility; U.S. Department of Transportation, 400 Seventh Street, SW., Nassif Building, Room PL-401, Washington, DC, or on the Internet at http://dms.dot.gov. The docket number is Docket No. FAA-2007-27611; Directorate Identifier 2007-CE-024-AD.

Issued in Kansas City, Missouri, on April 6, 2007.
Kim Smith,
Manager, Small Airplane Directorate, Aircraft Certification Service.

[FR Doc. E7-6928 Filed 4-11-07; 8:45 am]

BILLING CODE 4910-13-P